DEPARTMENT OF STATE

[Public Notice 8199]

Designation of the Center for Innovation and Technology Cooperation (CITC), Pentane Chemistry Industries (PCI), and Hossein Tanideh Pursuant to Executive Order 13382

AGENCY: Department of State.

ACTION: Designation of the Center for Innovation and Technology Cooperation (CITC), Pentane Chemistry Industries (PCI), and Hossein Tanideh Pursuant to E.O. 13382.

SUMMARY: Pursuant to the authority in section 1(ii) of Executive Order 13382, “Blocking Property of Weapons of Mass Destruction Proliferators and Their Supporters,” the State Department, in consultation with the Secretary of the Treasury and the Attorney General, has determined that the Center for Innovation and Technology Cooperation (CITC), Pentane Chemistry Industries (PCI), and Hossein Tanideh, have engaged, or attempted to engage, in activities or transactions that have materially contributed to, or pose a risk of materially contributing to, the proliferation of weapons of mass destruction or their means of delivery (including missiles capable of delivering such weapons), including any efforts to manufacture, acquire, possess, develop, transport, transfer, or use such items, by any person or foreign country of proliferation concern.

DATES: The designation by the Acting Under Secretary of State for Arms Control and International Security of the entity identified in this notice pursuant to Executive Order 13382 is effective on July 12, 2012.

FOR FURTHER INFORMATION CONTACT: Director, Office of Counterproliferation Initiatives, Bureau of International Security and Nonproliferation, Department of State, Washington, DC 20520, tel.: 202-647-5193.

Background

On June 28, 2005, the President, invoking the authority, inter alia, of the International Emergency Economic Powers Act (50 U.S.C. 1701-1706) (“IEEPA”), issued Executive Order 13382 (70 FR 38567, July 1, 2005) (the “Order”), effective at 12:01 a.m. eastern daylight time on June 30, 2005. In the Order the President took additional steps with respect to the national emergency described and declared in Executive Order 12938 of November 14, 1994, regarding the proliferation of weapons of mass destruction and the means of delivering them.

Section 1 of the Order blocks, with certain exceptions, all property and interests in property that are in the United States, or that hereafter come within the United States or that are or hereafter come within the possession or control of United States persons, of: (1) The persons listed in the Annex to the Order; (2) any foreign person determined by the Secretary of State, in consultation with the Secretary of the Treasury, the Attorney General, and other relevant agencies, to have engaged, or attempted to engage, in activities or transactions that have materially contributed to, or pose a risk of materially contributing to, the proliferation of weapons of mass destruction or their means of delivery (including missiles capable of delivering such weapons), including any efforts to manufacture, acquire, possess, develop, transport, transfer or use such items, by any person or foreign country of proliferation concern; (3) any person determined by the Secretary of the Treasury, in consultation with the Secretary of State, the Attorney General, and other relevant agencies, to have provided, or attempted to provide, financial, material, technological or other support for, or goods or services in support of, any activity or transaction described in clause (2) above or any person whose property and interests in property are blocked pursuant to the Order; and (4) any person determined by the Secretary of the Treasury, in consultation with the Secretary of State, the Attorney General, and other relevant agencies, to be owned or controlled by, or acting or purporting to act for or on behalf of, directly or indirectly, any person whose property and interests in property are blocked pursuant to the Order.

Information on the additional designee is as follows:

Center for Innovation and Technology Cooperation, A.K.A. CITC, A.K.A. Technology Cooperation Office, A.K.A. TCO, A.K.A. Office of Scientific and Technical Cooperation, F.K.A. Presidency Office of Scientific and Industrial Studies (POSIS), F.K.A. Office of Scientific and Industrial Studies (OSIS). Location: Tehran, Iran.

Pentane Chemistry Industries, A.K.A. PCI, A.K.A. Pentane Chemistry Industries Company. Location: 5th Floor, No. 192, Darya and Paknejad Blv. Cross Section, Shahrak Gharb, Tehran, Iran.

Hossein Tanideh, D.O.B. 9 June 1964, passport number H13781445; expiration: 9 June 2013.

Dated: July 9, 2012.
Rose Gottemoeller
Acting Under Secretary for Arms Control and International Security, Department of State.

[FR Doc. 2013-04425 Filed 2-25-13; 8:45 am]

BILLING CODE 4710-27-P